DEPARTMENT OF THE INTERIOR

National Park Service

[NPS-WASO-NAGPRA-15874; PPWOCRADN0-PCU00RP14.R50000]

Notice of Inventory Completion: Denver Museum of Nature & Science, Denver, CO; Correction

AGENCY: National Park Service, Interior.

ACTION: Notice; correction.

SUMMARY: The Denver Museum of Nature & Science has corrected an inventory of human remains and associated funerary objects, published in two Notices of Inventory Completion in the Federal Register on July 22, 2010 and September 14, 2010. This notice corrects the number of associated funerary objects for one site. Lineal descendants or representatives of any Indian tribe or Native Hawaiian organization not identified in this notice that wish to request transfer of control of these associated funerary objects should submit a written request to the Denver Museum of Nature & Science. If no additional requestors come forward, transfer of control of the associated funerary objects to the lineal descendants, Indian tribes, or Native Hawaiian organizations stated in this notice may proceed.

DATES: Lineal descendants or representatives of any Indian tribe or Native Hawaiian organization not identified in this notice that wish to request transfer of control of these associated funerary objects should submit a written request with information in support of the request to the Denver Museum of Nature & Science at the address in this notice by July 24, 2014.

ADDRESSES: Dr. Chip Colwell-Chanthaphonh, Denver Museum of Nature & Science, 2001 Colorado Blvd., Denver, CO 80205, telephone (303) 370-6378, email Chip.C-C@dmns.org.

SUPPLEMENTARY INFORMATION: Notice is here given in accordance with the Native American Graves Protection and Repatriation Act (NAGPRA), 25 U.S.C. 3003, of the correction of an inventory of human remains and associated funerary objects under the control of the Denver Museum of Nature & Science (DMNS). The human remains and associated funerary objects were removed from the Turner-Look Site near Cisco, Grand County, UT.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

This notice corrects the number of associated funerary objects published in Notices of Inventory Completion in the Federal Register (75 FR 42770-42771, July 22, 2010 and 75 FR 55823-55824, September 14, 2010). Since the publication of notices, additional associated funerary objects were found to be in the possession of DMNS. Transfer of control of the items in this correction notice has not occurred.

Correction

In the Federal Register (75 FR 42770-42771, July 22, 2010), paragraph 5, is corrected by substituting the following paragraph:

In 1938, human remains representing a minimum of five individuals were excavated at the Turner-Look Site near Cisco, Grand County, UT, by Wormington. The human remains were removed during legal excavation on private land. The human remains were accessioned into the museum collection (A533.4A (CUI 28), A533.5C (CUI 29), A533.5B (CUI 30), A533.5A (CUI 31), and A533.6A (CUI 32)). Remains include one child, which was reportedly found with seven associated funerary objects, but only three were collected and in the museum's possession: one small circular slate plaque (A533.4B), one stone metate (A533.7A), and one lot of shell fragments (A533.36). The additional human remains are composed of one infant and three adult males, one with the following associated funerary objects: two lots of pottery sherds (A533.6B, A533.6C), one lot of lithics (A533.6D), and one animal bone fragment (A533.6D). When excavated these remains were defined within the then incipient culture type “Fremont” although this designation as it was then understood is ambiguous in today's archeological lexicon. No known individuals were identified.

In the Federal Register (75 FR 55823-55824, September 14, 2010), paragraph 7, sentence 2 is corrected by substituting the following sentence:

Officials of the Denver Museum of Nature & Science also have determined that, pursuant to 25 U.S.C. 3001(3)(A), the 20 objects described above are reasonably believed to have been placed with or near individual human remains at the time of death or later as part of the death rite or ceremony.

Additional Requestors and Disposition

Lineal descendants or representatives of any Indian tribe or Native Hawaiian organization not identified in this notice that wish to request transfer of control of these associated funerary objects should submit a written request with information in support of the request to Dr. Chip Colwell-Chanthaphonh, Denver Museum of Nature & Science, 2001 Colorado Blvd., Denver, CO 80205, telephone (303) 370-6378, email Chip.C-C@dmns.org, by July 24, 2014. After that date, if no additional requestors have come forward, transfer of control of the associated funerary objects to the Hopi Tribe of Arizona; Pueblo of Acoma, New Mexico; Pueblo of Zia, New Mexico; and the Zuni Tribe of the Zuni Reservation, New Mexico, may proceed.

The DMNS is responsible for notifying the Ak Chin Indian Community of the Maricopa (Ak Chin) Indian Reservation, Arizona; Fort Mojave Indian Tribe of Arizona, California & Nevada; Fort Sill Apache Tribe of Oklahoma; Gila River Indian Community of the Gila River Indian Reservation, Arizona; Havasupai Tribe of the Havasupai Reservation, Arizona; Hopi Tribe of Arizona; Hualapai Indian Tribe of the Hualapai Indian Reservation, Arizona; Jicarilla Apache Nation, New Mexico; Kewa Pueblo, New Mexico (previously listed as the Pueblo of Santo Domingo); Mescalero Apache Tribe of the Mescalero Reservation, New Mexico; Navajo Nation, Arizona, New Mexico & Utah; Ohkay Owingeh, New Mexico (previously listed as the Pueblo of San Juan); Pueblo of Acoma, New Mexico; Pueblo of Cochiti, New Mexico; Pueblo of Isleta, New Mexico; Pueblo of Jemez, New Mexico; Pueblo of Laguna, New Mexico; Pueblo of Nambe, New Mexico; Pueblo of Picuris, New Mexico; Pueblo of Pojoaque, New Mexico; Pueblo of San Felipe, New Mexico; Pueblo of San Ildefonso, New Mexico; Pueblo of Sandia, New Mexico; Pueblo of Santa Ana, New Mexico; Pueblo of Santa Clara, New Mexico; Pueblo of Taos, New Mexico; Pueblo of Tesuque, New Mexico; Pueblo of Zia, New Mexico; Salt River Pima-Maricopa Indian Community of the Salt River Reservation, Arizona; San Carlos Apache Tribe of the San Carlos Reservation, Arizona; Shoshone Tribe of the Wind River Reservation, Wyoming; Shoshone-Bannock Tribes of the Fort Hall Reservation; Shoshone-Paiute Tribes of the Duck Valley Reservation, Nevada; Southern Ute Indian Tribe of the Southern Ute Reservation, Colorado; Tohono O'odham Nation of Arizona; Ute Indian Tribe of the Uintah & Ouray Reservation, Utah; Ute Mountain Tribe of the Ute Mountain Reservation, Colorado, New Mexico & Utah; White Mountain Apache Tribe of the Fort Apache Reservation, Arizona; Yavapai-Apache Nation of the Camp Verde Indian Reservation, Arizona; Yavapai-Prescott Indian Tribe (previously listed as the YUavapai-Prescott Tribe of the Yavapai Reservation, Arizona; Ysleta Del Sur Pueblo of Texas; Zuni Tribe of the Zuni Reservation, New Mexico; and the Southern Paiute Consortium, a non-federally recognized Indian group, that this notice has been published.

Dated: May 22, 2014.
David Tarler,
Acting Manager, National NAGPRA Program.

[FR Doc. 2014-14755 Filed 6-23-14; 8:45 am]

BILLING CODE 4312-50-P